DEPARTMENT OF COMMERCE

National Oceanic and Atmospheric Administration

[I.D. 052902C]

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet June 16-21, 2002. The Council meeting will begin on Tuesday, June 18, at 8 a.m., reconvening each day through Friday. All meetings are open to the public, except a closed session will be held from 8 a.m. until 9:30 a.m. on Tuesday, June 18 to address litigation and personnel matters. The Council will meet as late as necessary each day to complete its scheduled business.

ADDRESSES: The meetings and hearing will be held at the Crowne Plaza Hotel, 1221 Chess Drive, Foster City, CA 94404; telephone: 650-570-5700.

Council address: Pacific Fishery Management Council, 7700 NE Ambassador Place, Suite 200, Portland, OR 97266.

FOR FURTHER INFORMATION CONTACT: Dr. Donald O. McIsaac, Executive Director; telephone: 503-820-2280 (as of May 15, 2002).

SUPPLEMENTARY INFORMATION: The following items are on the Council agenda, but not necessarily in this order:

A. Call to Order

1. Opening Remarks, Introductions,

2. Roll Call

3. Executive Director’s Report

4. Approve Agenda

5. Approve March and April 2002 Meeting Minutes

B. Administrative Matters

1. Appointments to Advisory Bodies

2. Council Staff Work Load Priorities

3. September 2002 Council Meeting Draft Agenda

C. Groundfish Management

1. NMFS Report on Groundfish Management

2. Stock Assessments for Bocaccio, Canary Rockfish, and Sablefish

3. Rebuilding Analyses for Bocaccio, Canary Rockfish, Yelloweye Rockfish, Widow Rockfish, and Whiting

4. Preliminary Harvest Levels and Other Specifications for 2003

5. Adoption of Draft Rebuilding Plans for Public Review for Pacific Ocean Perch, Lingcod, Cowcod, Widow Rockfish, and Darkblotched Rockfish

6. Fishery Management Plan (FMP) Programmatic Environmental Impact Statement

7. Draft Amendment 17 (Multi-Year) Management

8. Proposed Management Measures for 2003

9. Status of Fisheries and Inseason Adjustments

10. Groundfish Stock Assessment Priorities for 2003

11. Scoping for Delegation of Nearshore Management Authority

D. Highly Migratory Species Management

1. NMFS Report on Highly Migratory Species (HMS) Management

2. HMS Draft FMP Development

E. Habitat Issues

Essential Fish Habitat Issues

F. Marine Reserves

1. Review of Proposal for Marine Reserves in State Waters of the Channel Islands National Marine Sanctuary

2. Update on Other Marine Reserves Processes

G. Coastal Pelagic Species Management

1. NMFS Report on Coastal Pelagic Species (CPS) Management

2. Amendment 10 to the CPS FMP

3. Pacific Mackerel Stock Assessment and Harvest Guideline

SCHEDULE OF ANCILLARY MEETINGS
SUNDAY, June 16, 2002 |
Groundfish Advisory Subpanel | 1 p.m.
Groundfish Management Team | 1 p.m.
Scientific and Statistical Committee | 1 p.m.
MONDAY, June 17, 2002 |
Council Secretariat | 8 a.m.
Groundfish Advisory Subpanel | 8 a.m.
Groundfish Management Team | 8 a.m.
Habitat Committee | 8 a.m.
Scientific and Statistical Committee | 8 a.m.
Legislative Committee | 10 a.m.
Budget Committee | 1 p.m.
TUESDAY, June 18, 2002 |
Council Secretariat | 7 a.m.
California State Delegation | 7 a.m.
Oregon State Delegation | 7 a.m.
Washington State Delegation | 7 a.m.
Groundfish Advisory Subpanel | 8 a.m.
Groundfish Management Team | 8 a.m.
Habitat Committee | 8 a.m.
Highly Migratory Species Advisory Subpanel | 8 a.m.
Scientific and Statistical | 8 a.m.
Enforcement Consultants | Immediately following Council Session
WEDNESDAY, June 19, 2002 |
Council Secretariat | 7 a.m.
California State Delegation | 7 a.m.
Oregon State Delegation | 7 a.m.
Washington State Delegation | 7 a.m.
Groundfish Advisory Subpanel | 8 a.m.
Groundfish Management Team | 8 a.m.
Coastal Pelagic Species Advisory Subpanel | 10 a.m.
Advisory Subpanel Enforcement Consultants | As necessary
THURSDAY, June 20, 2002 |
Council Secretariat | 7 a.m.
California State Delegation | 7 a.m.
Oregon State Delegation | 7 a.m.
Washington State Delegation | 7 a.m.
Coastal Pelagic Species Advisory Subpanel | 8 a.m.
Groundfish Management Team | 8 a.m.
Groundfish Advisory Subpanel | 8 a.m.
Enforcement Consultants | As necessary
FRIDAY, June 21, 2002 |
Council Secretariat | 7 a.m.
California State Delegation | 7 a.m.
Oregon State Delegation | 7 a.m.
Washington State Delegation | 7 a.m.
Groundfish Management Team | 8 a.m.
Enforcement Consultants | As necessary

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 326-6352 at least 5 days prior to the meeting date.

Dated: May 30, 2002.
Richard W. Surdi,
Acting Director, Office of Sustainable Fisheries, National Marine Fisheries Service.

[FR Doc. 02-13953 Filed 6-3-02; 8:45 am]

BILLING CODE 3510-22-S